TENNESSEE VALLEY AUTHORITY

Jugfork Solar Project Environmental Impact Statement

AGENCY: Tennessee Valley Authority.

ACTION: Notice of Intent.

SUMMARY: The Tennessee Valley Authority (TVA) intends to prepare an environmental impact statement (EIS) for the purchase of electricity generated by the proposed Jugfork Solar Project in Lee and Union Counties, Mississippi. The EIS will assess the potential environmental effects of constructing, operating, and maintaining the proposed 200-megawatt (MW) alternating current (AC) solar facility, along with a 20 MW Battery Energy Storage System (BESS). The proposed 200 MW AC solar panel facility would occupy approximately 1,000 acres of the approximately 1,700-acre Project Study Area. The project would also include the upgrade of 6.4 miles of the Tupelo to Union 161-kV transmission line. Public comments are invited concerning the scope of the EIS, alternatives being considered, and environmental issues that should be addressed as a part of this EIS. TVA is also requesting data, information, and analysis relevant to the proposed action from the public; affected federal, state, tribal, and local governments, agencies, and offices; the scientific community; industry; or any other interested party.

DATES: The public scoping period begins with the publication of this Notice of Intent in the Federal Register. To ensure consideration, comments must be postmarked, emailed, or submitted online no later than October 7, 2024.

ADDRESSES: Written comments should be sent to Neil Schock, NEPA Specialist, Tennessee Valley Authority, 400 West Summit Hill Drive, WT 11B, Knoxville, Tennessee 37902. Comments may be submitted online at: www.tva.gov/nepa, or by email to nepa@tva.gov. To ensure comments are correctly dispositioned, please specify the project when submitting comments. Please note that TVA encourages comments submitted electronically.

FOR FURTHER INFORMATION CONTACT: Neil Schock by email at ntschock@tva.gov, by phone at (865) 632-3053, or by mail at the address above.

SUPPLEMENTARY INFORMATION: This notice is provided in accordance with the Council on Environmental Quality's Regulations (40 CFR parts 1500 to 1508) and TVA's procedures for implementing the NEPA (18 CFR 1318). TVA is an agency and instrumentality of the United States, established by an act of Congress in 1933, to foster the social and economic welfare of the people of the Tennessee Valley region and to promote the proper use and conservation of the region's natural resources. One component of this mission is the generation, transmission, and sale of reliable and affordable electric energy.

Background

In June 2019, TVA completed the final Integrated Resource Plan (IRP) and associated EIS. The 2019 IRP identified the various resources that TVA intends to use to meet the energy needs of the TVA region over the 20-year planning period while achieving TVA's objectives to deliver reliable, low-cost, and cleaner energy with fewer environmental impacts. The 2019 IRP anticipates growth of solar in all scenarios analyzed, with most scenarios anticipating 5,000 to 8,000 MW and one anticipating up to 14,000 MW by 2038 (TVA 2019). The 2019 IRP remains valid and guides future generation planning consistent with least cost planning principles. With the demand for solar energy increasing, TVA has an expansion target of 10,000 MW of solar by 2035 (TVA 2021). Customer demand for cleaner energy prompted TVA to release a Request for Proposal (RFP) for renewable energy resources (2022 Carbon-Free RFP).

TVA has entered into a Power Purchase Agreement (PPA) with Competitive Power Ventures (CPV) to purchase 200 MW AC of power generated by the proposed Jugfork Solar Project, hereafter referred to as the Project. The proposed 200 MW AC solar facility would occupy approximately 1,000 acres of the approximately 1,700-acre Project Study Area which is located in Lee and Union Counties, in northeast Mississippi. The project site is north of Tupelo, Mississippi, along State Highway 348 east of New Albany, Mississippi. The project site is mostly farmland with areas of woody wetlands, deciduous forest, and hay/pasture. The land surplus is to accommodate access roads and the potential repositioning of the array if any areas need to be avoided as a result of the NEPA review. A map showing the project site is available at www.tva.gov/nepa.

Preliminary Proposed Action and Alternatives

In addition to a No Action Alternative, TVA will evaluate the action alternative of purchasing power from the proposed Jugfork Solar Project under the terms of a PPA. In evaluating alternatives, TVA considered other solar proposals, prior to selecting the Jugfork Solar site for further evaluation. Part of the screening process included a review of transmission options, including key connection points to TVA's transmission system. The screening process indicated that the Jugfork site is a viable option for connectivity. Environmental and cultural considerations were also included in TVA's screening process. The EIS will evaluate ways to avoid impacts, as well as mitigate impacts that cannot be avoided. The description and analysis of these alternatives in the EIS will inform decision makers, other agencies, and the public about the potential for environmental impacts. TVA solicits comments on whether there are other alternatives that should be assessed in the EIS.

Project Purpose and Need

The Jugfork Solar Project that was submitted as a result of TVA's 2022 Carbon-Free RFP will help TVA meet the need for additional renewable generating capacity in response to customer demands and fulfill the renewable energy goals established in the 2019 IRP which remains valid. This EIS will identify the purpose and need of the project and will contain descriptions of the existing environmental and socioeconomic resources within the area that could be affected by the proposed solar facility, including the documented historical, cultural, and environmental resources. Evaluation of potential environmental impacts to these resources will include, but not be limited to, air quality and greenhouse gas emissions, surface water, groundwater, wetlands, floodplains, vegetation, wildlife, threatened and endangered species, land use, natural areas and parks and recreation, geology, soils, prime farmland, visual resources, noise, cultural resources, socioeconomics and environmental justice, solid and hazardous waste, public and occupational health and safety, utilities, and transportation.

Based on a preliminary evaluation of these resources, potential impacts to vegetation and wildlife due to the conversion of deciduous forest of various ages to early maintained grass-dominated fields may occur. Impacts to water resources would likely be minor with the use of best management practices and avoidance of siting project components in or near streams, wetlands, and riparian areas to the extent feasible. Land use would be impacted by the conversion of farmland to industrial use and the elimination of current farming operations. This would also result in visual impacts. Beneficial impacts are expected by facilitating the development of renewable energy and thereby increasing local job opportunities. The EIS will analyze measures that would avoid, minimize, or mitigate environmental effects. The final range of issues to be addressed in the environmental review will be determined, in part, from scoping comments received.

Request for Identification of Potential Alternatives, Information, and Analyses Relevant to the Proposed Action

The final range of issues to be addressed in the environmental review will be determined, in part, from scoping comments received. TVA is particularly interested in public input on other reasonable alternatives that should be considered in the EIS. The preliminary identification of reasonable alternatives and environmental issues in this notice is not meant to be exhaustive or final.

Public Participation

The public is invited to submit comments on the scope of this EIS no later than the date identified in the DATES section of this notice. Federal, state, and local agencies and Native American Tribes are also invited to provide comments. Information about this project is available on the TVA web page at www.tva.gov/nepa, including a link to an online public comment page. Any comments received, including names and addresses, will become part of the administrative record and will be available for public inspection. After consideration of comments received during the scoping period, TVA will develop and distribute a scoping document that will summarize public and agency comments that were received and identify the schedule for completing the EIS process. Following analysis of the issues, TVA will prepare the draft EIS for public review and comment; expected to be released summer of 2025. TVA anticipates the final EIS in spring 2026. In finalizing the EIS and in making its final decision, TVA will consider the comments that it receives on the draft. Information regarding the release of the draft EIS, the associated comment period, the final EIS, and the schedule will be posted on TVA's website.

Michael McCall,
Vice President, Environment and Sustainability.

[FR Doc. 2024-19557 Filed 9-4-24; 8:45 am]

BILLING CODE 8120-08-P